DEPARTMENT OF DEFENSE

GENERAL SERVICES ADMINISTRATION

NATIONAL AERONAUTICS AND SPACE ADMINISTRATION

[OMB Control No. 9000-0163; Docket No. 2024-0053; Sequence No. 3]

Submission for OMB Review; Small Business Size Rerepresentation

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding small business size rerepresentation.

DATES: Submit comments on or before May 10, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and Any Associated Form(s)

OMB Control No. 9000-0163, Small Business Size Rerepresentation.

B. Need and Uses

This clearance covers the information that contractors must submit to comply with the following Federal Acquisition Regulation (FAR) requirements:

• FAR 52.219-28, Post-Award Small Business Program Rerepresentation. This clause requires contractors that originally represented themselves as a small business for a contract award to rerepresent their size and socioeconomic status at the prime contract level by updating their representations in the Representations and Certifications section of the System for Award Management (SAM). Contractors are also required to notify the contracting officer by email, or otherwise in writing, that the rerepresentations have been made, and provide the date on which they were made.

Small business contractors are required to rerepresent their size and socioeconomic status upon occurrence of any of the following:

(a) For the NAICS code(s) in the contract—

(1) Within 30 days after execution of a novation agreement or within 30 days after modification of the contract to include FAR clause 52.219-28 if the novation agreement was executed prior to inclusion of this clause in the contract.

(2) Within 30 days after a merger or acquisition of the contractor that does not require novation or within 30 days after modification of the contract to include the clause at 52.219-28 if the merger or acquisition occurred prior to inclusion of this clause in the contract;

(3) For long-term contracts—

(i) Within 60 to 120 days prior to the end of the fifth year of the contract; and

(ii) Within 60 to 120 days prior to the date specified in the contract for exercising any option thereafter.

(b) When contracting officers explicitly require it for an order issued under a multiple-award contract.

The collected information is used by the Small Business Administration, Congress, Federal agencies and the general public for various reasons, such as determining if agencies are meeting statutory goals, set-aside determinations, and market research.

C. Annual Burden

Respondents: 3,482.

Total Annual Responses: 5,098.

Total Burden Hours: 2,549.

D. Public Comment

A 60-day notice was published in the Federal Register at 89 FR 6523, on February 1, 2024. A comment was received; however, it did not change the estimate of the burden.

Comment: The respondent expressed concerns about proposed changes that could result in small businesses missing contracting opportunities because their small business size standard changes while waiting for the Government to evaluate proposals and make awards. The respondent stated that a gap of multiple years is not uncommon for the Government's process. The respondent indicated that the proposed changes are not needed.

Response: The comment is not relevant to the request for comments. The respondent's comment appears to express views regarding the proposed rule for FAR Case 2020-016, Rerepresentation of Size and Socioeconomic Status, published on September 29, 2023 (88 FR 67189). The respondent supports the current FAR policy and did not express opposition to its associated information collection as described on the 60-day notice published in the Federal Register for the extension of the collection.

Obtaining Copies: Requesters may obtain a copy of the information collection documents from the GSA Regulatory Secretariat Division, by calling 202-501-4755 or emailing GSARegSec@gsa.gov. Please cite OMB Control No. 9000-0163, Small Business Size Rerepresentation.

William Clark,
Director, Office of Governmentwide Acquisition Policy, Office of Acquisition Policy, Office of Governmentwide Policy.

[FR Doc. 2024-07534 Filed 4-9-24; 8:45 am]

BILLING CODE 6820-EP-P